DEPARTMENT OF TRANSPORTATION

Pipeline and Hazardous Materials Safety Administration

List of Special Permit Applications Delayed More Than 180 Days

AGENCY: Office of Hazardous Materials Safety, Pipeline and Hazardous Materials Safety Administration (PHMSA), DOT.

ACTION: List of Applications Delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

Key to “Reason for Delay”

1. Awaiting additional information from applicant

2. Extensive public comment under review

3. Application is technically complex and is of significant impact or precedent-setting and requires extensive analysis

4. Staff review delayed by other priority issues or volume of special permit applications

Meaning of Application Number Suffixes

N—New application

M—Modification request

R—Renewal Request

P—Party To Exemption Request

Issued in Washington, DC, on April 23, 2014.
Donald Burger,
Chief, General Approvals and Permits.

Application No. | Applicant | Reason for delay | Estimated date of completion
MODFICATION TO SPECIAL PERMITS
15577-M | Olin Corporation, Oxford, MS | 4 | 05-31-2014
15642-M | Praxair Distribution, Inc., Danbury, CT | 4 | 05-31-2014
12184-M | Weldship Corporation, Bethlehem, PA | 4 | 05-31-2014
11373-M | Marlin Company, Inc., Lenoir, NC | 4 | 05-31-2014
14313-M | Airgas USA, LLC., Tulsa, OK | 4 | 06-30-2014
9610-M | ATK Small Caliber Systems, Independece, MO | 4 | 05-31-2014
15448-M | U.S. Department of Defense, Scott AFB, IL | 4 | 06-30-2014
15854-M | Colmac Coil Manufacturing, Inc., Colville, WA | 4 | 05-31-2014
NEW SPECIAL PERMIT APPLICATIONS
15767-N | Union Pacific Railroad Company, Omaha, NE | 1 | 05-31-2014
15863-N | Baker Hughes, Oilfield Operations Inc., Houston, TX | 3 | 05-31-2014
15882-N | Ryan Air, Anchorage, AK | 4 | 05-31-2014
15973-N | Codman & Shurtleff, Inc., Raynharn, MA | 4 | 07-31-2014
15955-N | Thompson Tank, Inc., Lakewood, CA | 4 | 05-31-2014
15962-N | U.S. Department of Defense, (DOD) Scott AFB, IL | 4 | 05-31-2014
15997-N | Chemring Energetic Devices, Inc., Torrance, CA | 4 | 07-31-2014
15991-N | Dockweiler, Neustadt-Glewe, Germany | 4 | 07-31-2014
16011-N | Americase, Waxahache, TX | 4 | 06-30-2014
16021-N | U.S. Department of Defense, (DOD), Scott AFB, IL | 4 | 07-31-2014
15998-N | U.S. Department of Defense, (DOD), Scott AFB, IL | 4 | 07-31-2014
15999-N | National Aeronautics and Space Administration, (NASA), Washington, DC | 4 | 07-31-2014
16001-N | VELTEK, Malvern, PA | 4 | 07-31-2014
16120-N | Pacific Helicopter Tours, Inc. | 4 | 05-31-2014
RENEWAL SPECIAL PERMITS APPLICATIONS
14267-R | LATA Environmental Services, of Kentucky, LLC, (LATA Kentucky), Kevil, KY | 3 | 05-31-2014
8971-R | Baker Hughes Oilfield Operations Inc., Houston, TX | 4 | 05-31-2014
11602-R | East Tennessee Iron & Metal, Inc., Rogersville, TN | 4 | 05-31-2014
9874-R | The Dow Chemical Company, Philadelphia, PA | 4 | 05-31-2014
11373-R | Chem-Way Corporation, Columbia, SC | 4 | 05-31-2014

[FR Doc. 2014-10069 Filed 5-5-14; 8:45 am]

BILLING CODE 4910-60-M